DEPARTMENT OF STATE

[Public Notice: 10013]

Notice of Environmental Impact Statement; Withdrawal

AGENCY: Department of State.

ACTION: Notice of withdrawal of intent to prepare an environmental impact statement.

SUMMARY: The U.S. Department of State (Department) is withdrawing the April 15, 2016, Federal Register Notice, which announced its intent to prepare an Environmental Impact Statement (EIS), consistent with the National Environmental Policy Act (NEPA) of 1969 (as implemented by the Council on Environmental Quality regulations found at 40 CFR 1500-1508), to evaluate potential impacts from the construction, connection, operation, and maintenance of a proposed new 20-inch diameter pipeline and associated infrastructure in North Dakota that would export crude oil from the United States to Canada. On May 16, 2017, the applicant, Upland Pipeline, LLC, requested that the Department pause its review of the company's application for a Presidential permit until further notice.

DATES: The withdrawal of the Notice of Intent published April 15, 2016 at 81 FR 22359 is effective on the date of this publication in the Federal Register.

ADDRESSES: Upland Project Manager, Office of Environmental Quality and Transboundary Issues, Room 2726, U.S. Department of State, 2201 C Street NW., Washington, DC 20520.

FOR FURTHER INFORMATION CONTACT: Jill Reilly at the address listed in ADDRESSES, or by email at UplandReview@state.gov.

Barton J. Putney,
Director, Office of Environmental Quality and Transboundary Issues, Department of State.

[FR Doc. 2017-11264 Filed 5-31-17; 8:45 am]

BILLING CODE 4710-19-P